DEPARTMENT OF HEALTH AND HUMAN SERVICES

Food and Drug Administration

Blood Donor Recruitment Practices; Public Workshop

AGENCY: Food and Drug Administration, HHS.

ACTION: Notice of meeting.

The Food and Drug Administration (FDA) is announcing the following public workshop: Blood Donor Recruitment Practices. The purpose of the workshop is to gather information on recruiting blood donors and to develop recommendations on the best practices in donor recruitment in the United States.

Date and Time: The public workshop will be held on July 6, 2000, 8:30 a.m. to 5 p.m; and on July 7, 2000, 8:30 a.m. to 2 p.m.

Locations: The July 6, 2000, workshop will be held at the National Institutes of Health, Lister Hill Center, 8600 Rockville Pike, Bldg. 38A, Bethesda, MD. The July 7, 2000, workshop will be held at the same location, and then will move to the Natcher Conference Center, 45 Center Dr., Bldg. 45, for breakout sessions.

Contact: Joseph Wilczek, Center for Biologics Evaluation and Research (HFM-302), Food and Drug Administration, 1401 Rockville Pike, Rockville, MD 20852; 301-827-6129; FAX: 301-827-2843; e-mail: wilczek@cber.fda.gov.

Registration: Early registration is recommended on or before June 23, 2000. Mail or fax registration information (including name, title, firm name, address, telephone, and fax number) to Joseph Wilczek (address above). Registration at the site will be on a space-available basis on the day of the workshop, beginning at 7:30 a.m. There is no registration fee for the workshop. If you need special accommodations due to a disability, please contact Joseph Wilczek at least 7 days in advance.

Agenda: During the first day of the workshop, speakers from the blood bank industry will describe successful recruitment practices. The topics of the presentations will include methods used in successful programs, donor perception, donor retention, telephone recruiting and scheduling, cooperative recruiting in a competitive environment, advertising, education, incentives, and coordinating blood collection with anticipated needs. During the second day, attendees will break into small groups to further discuss key donor recruitment issues. The group discussions will be developed into recommendations of the best practices most likely to increase blood collection to levels sufficient to meet future transfusion needs. At the close of the second day, the attendees will reconvene to share the group recommendations. The information gathered at the workshop may provide the basis for an FDA document on best practices in donor recruitment.

Transcripts: Transcripts of the meeting may be requested in writing from the Freedom of Information Office (HFI-35), Food and Drug Administration, 5600 Fishers Lane, rm. 12A-16, Rockville, MD 20857, approximately 15 working days after the meeting at a cost of 10 cents per page. In addition, the transcript will be placed on the FDA Internet site at www.fda.gov/cber/minutes/workshop-min.htm.

Dated: June 7, 2000.
William K. Hubbard,
Senior Associate Commissioner for Policy, Planning, and Legislation.

[FR Doc. 00-14904 Filed 6-14-00; 8:45 am]

BILLING CODE 4160-01-F